DEPARTMENT OF EDUCATION

[CFDA Nos.: 84.133G and 84.133P]

Office of Special Education and Rehabilitative Services, National Institute on Disability and Rehabilitation Research (NIDRR); Notice Inviting Applications for New Awards for Fiscal Year (FY) 2004

SUMMARY: We invite applications for new FY 2004 grant awards under the Field-Initiated (FI) Projects (84.133G) and Advanced Rehabilitation Research Training (ARRT) Projects (84.133P) of NIDRR's Disability and Rehabilitation Research Project and Centers Program. We take this action to focus attention on an area of national need in the rehabilitation field.

Applicable Regulations: The Education Department General Administrative Regulations (EDGAR), 34 CFR parts 74, 75, 77, 80, 81, 82, 85, 86 and 97; and 34 CFR part 350.

Note: The regulations in 34 CFR part 86 apply to institutions of higher education only.

National Institute on Disability and Rehabilitation Research Application Notice for FY 2004
CFDA No. Program Name | Applications available | Deadline for transmittal of applications | Estimated available funds | Maximum award amount (per year) * | Estimated number of awards | Project period (months)
84.133G Field Initiated Projects | September 25, 2003 | December 9, 2003 | $4,500,000 | $150,000 | 30 | 36
84.133P Advanced Rehabilitation Research Training Projects | September 25, 2003 | November 24, 2003 | $750,000 | $150,000 | 3-5 | 60
* We will reject without consideration any application that proposes a budget exceeding the stated maximum award amount in any year (See 34 CFR 75.104(b)).
Note: The Department is not bound by any estimates in this notice.

SUPPLEMENTARY INFORMATION:

Note: NIDRR supports the goals of President Bush's New Freedom Initiative (NFI). The NFI can be accessed on the Internet at the following site: http://www.whitehouse.gov/news/freedominitiative/freedominitiative.html.

The FI and ARRT projects are in concert with NIDRR's Long-Range Plan (Plan). The Plan is comprehensive and integrates many issues relating to disability and rehabilitation research and development topics. The Plan can be accessed on the Internet at the following site: http://www.ed.gov/rschstat/research/pubs/index.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

The Secretary is interested in hypothesis-driven research and development projects. To address this interest it is expected that applicants will articulate goals, objectives, and expected outcomes for the proposed research and development activities. It is critical that proposals describe expected public benefits, especially benefits for individuals with disabilities, and propose projects that are optimally designed to demonstrate outcomes that are consistent with the proposed goals. Applicants are encouraged to include information describing how they will measure outcomes, including the indicators that will represent the end-result, the mechanisms that will be used to evaluate outcomes associated with specific problems or issues, and how the proposed activities will support new intervention approaches and strategies, including a discussion of measures of effectiveness. Submission of this information is voluntary except where required by the selection criteria listed in the application package.

Selection Criteria

The selection criteria for the FI Projects and the ARRT Projects will be provided in the application package.

Field-Initiated Projects (CFDA Number 84.133G)

Purpose of Program: FI Projects must further one or both of the following purposes: (a) Develop methods, procedures, and rehabilitation technology that maximize the full inclusion and integration into society, employment, independent living, family support, and economic and social self-sufficiency of individuals with disabilities, especially individuals with the most severe disabilities; or (b) improve the effectiveness of services authorized under the Rehabilitation Act of 1973 (Act), as amended. FI projects carry out either research activities or development activities.

In carrying out a research activity, a grantee must identify one or more hypotheses and, based on the hypotheses identified, perform an intensive, systematic study directed toward new scientific knowledge or better understanding of the subject, problem studied, or body of knowledge.

In carrying out a development activity, a grantee must use knowledge and understanding gained from research to create materials, devices, systems, or methods beneficial to the target population, including design and development of prototypes and processes. Target population means the group of individuals, organizations, or other entities expected to be affected by the project. More than one group may be involved since a project may affect those who receive services, provide services, or administer services.

There are two different sets of selection criteria for FI projects: One set to evaluate applications proposing to carry out research activities, and a second set to evaluate applications proposing to carry out development activities. The set of FI selection criteria that will be used to evaluate an application will be based on the applicant's designation of the type of activity that the application proposes to carry out.

The applicant should: (a) Clearly identify on the cover page of the application, block 4, whether the proposal is for a research or a development project; (b) identify if the application is a resubmittal from a previous competition conducted within the past two years, by writing the word resubmittal on the cover page of the application in block 13 along with the descriptive title; (c) if the application is a resubmittal from a previous competition conducted within the past two years, write the word resubmittal and the assigned application number (i.e., H133G02, H133G03) in the right hand corner at the bottom of the page on the abstract, the introduction, and cover letter; and (d) if applicable, indicate qualification as a minority entity or Indian tribe in the abstract and cover letter.

The term minority entity means an entity that is a historically Black college or university, a Hispanic-serving institution of higher education, an American Indian tribal college or university, or another institution of higher education whose minority student enrollment is at least 50 percent. Information on qualifying entities is located at: http://www.ed.gov/about/offices/list/ocr/edlite-minorityinst.html.

Invitational Priorities

The Secretary is particularly interested in applications that address one of the following invitational priorities. However, under 34 CFR 75.105(c)(1), an application that meets an invitational priority does not receive competitive or absolute preference over other applications. The invitational priorities are: (a) Projects that improve the exit of individuals with disabilities from buildings, vehicles, and other settings in emergencies; (b) projects that study use of the new “International Classification of Functioning, Disability and Health” (ICFDH-2) systems in promoting the independence and quality of life of persons with disabilities; (c) projects that collaborate with international assistive technology and rehabilitation engineering projects including, but not limited to, those that could be carried out under Science and Technology Agreements between the U.S. and other countries; (d) projects that enhance the functioning of people with chronic fatigue (CF); (e) projects that study chronic pain and pain management strategies to enhance the functioning of individuals with disabilities; and (f) projects that study mental health interventions related to traumatic stress of individuals with disabilities.

Eligible Applicants: States; public or private agencies, including for-profit agencies; public or private organizations, including for-profit organizations; institutions of higher education; and Indian tribes and tribal organizations.

Indirect Cost Rate: Applicants should limit indirect charges to the organization's federally approved indirect cost rate. If the organization does not have an approved indirect cost rate, the application should include an estimated actual rate.

Letters of Intent

Due to the open nature of the FI Projects competition, and to assist with the selection of reviewers for this competition, NIDRR is requiring all potential applicants to submit a Letter of Intent (LOI). This LOI will not be used to screen out potential applicants. Therefore, LOIs are neither approved nor disapproved. You will not be contacted about the status of your LOI.

Each LOI must be limited to a maximum of four pages and must include the following information: (1) The title of the proposed project, if it is research or development, the name of the host institution, the name of the Principal Investigator (PI), and the names of partner institutions and entities; (2) a brief statement of the vision, goals, and objectives of the proposed project and a description of its research and development activities at a sufficient level of detail to allow NIDRR to select potential peer reviewers; (3) a list of proposed project staff including the Director and key personnel; (4) a list of individuals whose selection as a peer reviewer might constitute a conflict of interest due to involvement in proposal development, selection as an advisory board member, co-PI relationships, etc.; and (5) contact information for the PI. Submission of a LOI is a prerequisite for eligibility to submit an application.

NIDRR will accept a LOI via surface mail, e-mail, or facsimile by November 10, 2003. If a LOI is submitted via e-mail or facsimile, the applicant must also provide NIDRR with the original signed LOI within seven days after the date the e-mail or facsimile is submitted. The LOI must be sent to: Surface mail: David Keer, U.S. Department of Education, 400 Maryland Avenue, SW., room 3431, Switzer Building, Washington, DC 20202-2645; or fax (202) 205-8515; or e-mail: david.keer@ed.gov.

For further information regarding the LOI requirement contact David Keer at (202) 205-5633.

Program Authority: 29 U.S.C. 764.

Advanced Rehabilitation Research Training Projects (CFDA Number 84.133P)

Purpose of Program: ARRT projects must provide research training and experience at an advanced level to individuals with doctorates or similar advanced degrees who have clinical or other relevant experience. ARRT projects train rehabilitation researchers, including individuals with disabilities, with particular attention to research areas that support the implementation and objectives of the Rehabilitation Act of 1973, as amended (Act), and that improve the effectiveness of services authorized under the Act.

ARRT projects must carry out all of the following activities: (1) Recruit and select candidates for advanced research training; (2) provide a training program that includes didactic and classroom instruction, is multidisciplinary, and emphasizes scientific methodology, and may involve collaboration among institutions; (3) provide research experience, laboratory experience, or its equivalent in a community-based research setting, and a practicum that involves each individual in clinical research and in practical activities with organizations representing individuals with disabilities; (4) provide academic mentorship or guidance, and opportunities for scientific collaboration with qualified researchers at the host university and other appropriate institutions; and (5) provide opportunities for participation in the development of professional presentations and publications, and for attendance at professional conferences and meetings as appropriate for the individual's field of study and level of experience.

Eligible Applicants: Institutions of higher education.

Indirect Cost Rate: Indirect cost reimbursement on a training grant is limited to eight percent of a modified total direct cost base, defined as total direct less stipends, tuition, and related fees.

Program Authority: 29 U.S.C. 762(k).

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2004, the Department is continuing to expand its pilot project for electronic submission of applications to include additional formula grant programs and additional discretionary grant competitions. The Field-Initiated Projects program—CFDA 84.133G and the Advanced Rehabilitation Research Training Projects program—CFDA 84.133P are two of the programs included in the pilot project. If you are an applicant under the Field-Initiated Projects program—CFDA 84.133G or the Advanced Rehabilitation Research Training Projects program—CFDA 84.133P, you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgment, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

• Application Deadline Date Extension in Case of System Unavailability: If you elect to participate in the e-Application pilot for the Field-Initiated Projects program—CFDA 84.133G or the Advanced Rehabilitation Research Training Projects program—CFDA 84.133P and you are prevented from submitting your application on the application deadline date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 a.m. and 3:30 p.m., Washington, DC time, on the application deadline date; or

(b) The e-Application system must be unavailable for any period of time during the last hour of operation (that is, for any period of time between 3:30 p.m. and 4:30 p.m., Washington, DC time) on the application deadline date.

The Department must acknowledge and confirm these periods of unavailability before granting you an extension. To request this extension or to confirm the Department's acknowledgement of any system unavailability, you may contact either (1) the person listed elsewhere in this notice under FOR FURTHER INFORMATION CONTACT or (2) the e-GRANTS help desk at 1-888-336-8930.

You may access the electronic grant application for the Field-Initiated Projects program—CFDA 84.133G or the Advanced Rehabilitation Research Training Projects program—CFDA 84.133P at: http://e-grants.ed.gov.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify the competition for which you are applying as follows: CFDA number 84.133G or 84.133P.

Individuals with disabilities may obtain a copy of the application package in an alternative format by contacting the Grants and Contracts Services Team, U.S. Department of Education, 400 Maryland Avenue, SW., room 3317, Switzer Building, Washington, DC 20202-2550. Telephone: (202) 205-8351. If you use a telecommunications device for the deaf (TDD), you may call the Federal Information Relay Services (FIRS) at 1-800-877-8339. However, the Department is not able to reproduce in an alternative format the standard forms included in the application package.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475. Individuals with disabilities may obtain this document in an alternative format (e.g., Braille, large print, audiotape, or computer diskette) on request to the contact person listed under FOR FURTHER INFORMATION CONTACT.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.gpoaccess.gov/nara/index.html.

Dated: September 22, 2003.
Robert H. Pasternack,
Assistant Secretary for Special Education and Rehabilitative Services.

[FR Doc. 03-24299 Filed 9-24-03; 8:45 am]

BILLING CODE 4000-01-P